DEPARTMENT OF COMMERCE

International Trade Administration

[A-489-501]

Certain Welded Carbon Steel Pipe and Tube From Turkey: Final Results of Antidumping Duty Administrative Review

AGENCY: Import Administration, International Trade Administration, Department of Commerce.

ACTION: Notice of final results of antidumping duty administrative review.

SUMMARY: On February 8, 2000, the Department of Commerce published the preliminary results of administrative review of the antidumping duty order on certain welded carbon steel pipe and tube from Turkey. This review covers one producer/exporter, the Borusan Group, during the period May 1, 1998, through April 30, 1999.

Based on our analysis of comments received, we have made changes in the margin calculations. Although the exact weighted-average dumping margin in the final results has changed, it remains de minimis as in the preliminary results. See the section entitled “Final Results of the Review.”

EFFECTIVE DATE: June 13, 2000.

FOR FURTHER INFORMATION CONTACT: Charles Riggle at (202) 482-0650 or David Layton at (202) 482-0371, Import Administration, Room 1870, International Trade Administration, U.S. Department of Commerce, 14th Street and Constitution Avenue, NW, Washington, DC 20230.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (April 1999).

Background

On February 8, 2000, the Department published in the Federal Register the preliminary results of administrative review of the antidumping duty order on certain welded carbon steel pipe and tube from Turkey. Notice of Preliminary Results of Antidumping Duty Administrative Review: Certain Welded Carbon Steel Pipe and Tube From Turkey, 65 FR 6159 (Preliminary Results). We invited parties to comment on the Preliminary Results. The Borusan Group (Borusan), the sole respondent in this review, submitted a case brief on March 9, 2000. No other party filed a case brief or rebuttal brief. The Department has conducted this administrative review in accordance with section 751 of the Act.

Scope of the Review

The products covered by this review include circular welded non-alloy steel pipes and tubes, of circular cross-section, not more than 406.4 millimeters (16 inches) in outside diameter, regardless of wall thickness, surface finish (black, galvanized, or painted), or end finish (plain end, beveled end, threaded and coupled). Those pipes and tubes are generally known as standard pipe, though they may also be called structural or mechanical tubing in certain applications.

Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells.

The scope is not limited to standard pipe and fence tubing, or those types of mechanical and structural pipe that are used in standard pipe application. All carbon steel pipes and tubes within the physical description outlined above are included in the scope of this review, except for line pipe, oil country tubular goods, boiler tubing, cold-drawn or cold-rolled mechanical tubing, pipe and tube hollows for redraws, finished scaffolding, and finished rigid conduit.

Imports of these products are currently classifiable under the following Harmonized Tariff Schedule of the United States (HTSUS) subheadings: 7306.30.10.00, 7306.30.50.25, 7306.30.50.32, 7306.30.50.40, 7306.30.50.55, 7306.30.50.85, and 7306.30.50.90.

Although the HTSUS subheadings are provided for convenience and customs purposes, our written description of the scope of this proceeding is dispositive.

Analysis of Comments Received

Borusan made only two comments regarding the Preliminary Results. As stated above no other party commented on the decision. In its first comment, Borusan points out that the wrong exchange rates were used in the preliminary results margin calculation. We discuss this below in the “Changes Since the Preliminary Results” section. In its second comment, Borusan asked that the Department indicate in the final results and the subsequent cash deposit instructions issued to Customs that two pipe producers, Mannesmann Boru and Kartal Boru, are part of the Borusan Group. The Department notes that these affiliations are well established by the record of the review and have never been disputed by the Department or any interested party. We will ensure that Customs is notified accordingly in the cash deposit instructions. Because these issues do not require extensive discussion, we have not issued a separate decision memorandum to accompany these final results of the review.

Sales Below Cost in the Home Market

The Department disregarded Borusan's home-market below-cost sales which failed the cost test in these final results of review.

Changes Since the Preliminary Results

In its case brief, Borusan pointed out a clerical error resulting in the use of the wrong set of Turkish lira exchange rates in the margin calculation for the preliminary results. We agree with Borusan. For these final results, we have applied the exchange rates which we had stated we would use in the preliminary results.

Final Results of Review

As a result of our correction of the clerical error, we determine a final weighted-average margin of 0.38 percent for Borusan for the period May 1, 1998, through April 30, 1999.

The Customs Service will assess antidumping duties on all appropriate entries. The Department will issue appraisement instructions directly to the Customs Service. We have calculated an exporter/customer-specific assessment value for subject merchandise based on the ratio of the total amount of antidumping duties calculated for the examined sales to the total quantity sold.

Cash-Deposit Requirements

The following deposit requirement shall be effective upon publication of this notice of final results of review for all shipments of certain welded carbon steel pipe and tube from Turkey, entered, or withdrawn from warehouse, for consumption on or after the publication date, as provided for by section 751(a)(1) of the Act: (1) The cash deposit rate for the Borusan Group is zero based on a weighted-average margin rate for Borusan of 0.38 percent, which is de minimis within the meaning of 19 CFR 351.106(c); (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in this or any previous review conducted by the Department, the cash deposit rate will be 14.74 percent, the “all others” rate established in the LTFV investigation.

The deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination in accordance with sections 751(a)(1) and 777(i)(1) of the Act.

Dated: June 7, 2000.
Troy H. Cribb,
Acting Assistant Secretary for Import Administration.

[FR Doc. 00-14892 Filed 6-12-00; 8:45 am]

BILLING CODE 3510-DS-P